DEPARTMENT OF HEALTH AND HUMAN SERVICES

National Toxicology Program (NTP); Report on Carcinogens (RoC); Announcement of the Formaldehyde Expert Panel Meeting: Amended Notice

AGENCY: National Institute of Environmental Health Sciences (NIEHS); National Institutes of Health (NIH).

ACTION: Availability of web conferencing and updated draft agenda.

SUMMARY: This notice announces the availability of web conferencing and an updated draft agenda for the RoC expert panel meeting on formaldehyde. The NTP has reserved web conferencing for the first 50 registrants; individuals who want to access the meeting remotely must pre-register by October 21, 2009. The web conferencing will be available during the public sessions of the meeting. The expert panel will meet on November 2-4, 2009, starting at 8:30 AM Eastern Standard Time, at the Hilton Raleigh-Durham Airport at Research Triangle Park Hotel, 4810 Page Creek Lane, Durham, NC 27703. Information regarding the formaldehyde expert panel meeting was announced in the Federal Register (74 FR 44845) published on August 31, 2009, and is available on the RoC Web site (http://ntp.niehs.nih.gov/go/29679). The guidelines and deadlines published in the August 31 Federal Register notice for submitting written public comments or making an oral presentation at the meeting in North Carolina still apply.

DATES: The RoC expert panel will meet on November 2-4, 2009, and convene each day at 8:30 a.m. Eastern Standard Time. October 21, 2009 is the deadline for meeting registration and requests for remote access. October 28, 2009 is the deadline for submission of oral statements and visual presentations.

ADDRESSES: The meeting will be held at the Hilton Raleigh-Durham Airport at Research Triangle Park Hotel, 4810 Page Creek Lane, Durham, NC 27703. Access to on-line registration to either attend the meeting in person in North Carolina or via Web conferencing is available on the RoC Web site (http://ntp.niehs.nih.gov/go/29679). Written public comments should be sent to Dr. Ruth M. Lunn, RoC Center, NIH/NIEHS, P.O. Box 12233, MD K2-14, Research Triangle Park, NC 27709, FAX: (919) 541-0144, or lunn@niehs.nih.gov. Courier address: Report on Carcinogens Center, 530 Davis Drive, Room 2006, Morrisville, NC 27560. Persons needing assistive technology in order to attend the meeting via web conferencing should contact Dr. Ruth Lunn (see FOR FURTHER INFORMATION CONTACT below). Requests should be made at least 7 business days in advance of the meeting.

FOR FURTHER INFORMATION CONTACT: Dr. Ruth M. Lunn, Director, RoC Center, (919) 316-4637, lunn@niehs.nih.gov.

SUPPLEMENTARY INFORMATION:

Web Conferencing

In response to public interest in the formaldehyde expert panel meeting, the NTP will provide web conferencing to facilitate remote access to the public sessions of the meeting. Web conferencing using Adobe ® Connect ™ will be available for the first 50 registrants. Individuals interested in attending the meeting remotely must register by October 21, 2009. Registration can be completed online at the RoC Web site (http://ntp.niehs.nih.gov/go/29679) or by contacting Dr. Ruth Lunn (see FOR FURTHER INFORMATION CONTACT above). NTP will send registrants instructions to access the meeting remotely on or before October 30, 2009. Web conferencing is a new remote access option for RoC meetings. NTP will make every effort to ensure the best possible technical quality for these remote access options, but the audio and video quality cannot be guaranteed.

Attendees registered for remote access are invited to present oral comments. The formal public comment period is scheduled for November 2, 2009. Oral public comments should not exceed 7 minutes in length and each organization is allowed only one comment slot (in person or by remote access). Every effort will be made to accommodate the public, but the total time allotted for oral comments and the time allotted per speaker by remote access will depend on the number of people who register online to speak. Remote speakers who wish to use slides with their oral comments, must send an electronic file to Dr. Lunn by October 28, 2009, for the slides to be available for Web conferencing. In addition, speakers may send a copy of their oral statement or talking points, which can supplement and/or expand the oral presentation, for distribution at the meeting and for the meeting record.

Updated Draft Agenda

The updated draft agenda includes a scientific presentation on formaldehyde and leukemia requested by the NTP. Following this presentation, there will be opportunity for public comments on this topic. Pre-registration is not required to comment on this topic, and there is a 3-minute limit for each speaker.

Details about the meeting, including the updated draft agenda, are available at http://ntp.niehs.nih.gov/go/29679 or by contacting Dr. Lunn (see FOR FURTHER INFORMATION CONTACT above). Updates to the meeting will be posted on this Web site.

Dated: October 1, 2009.
John R. Bucher,
Associate Director, National Toxicology Program.

[FR Doc. E9-24345 Filed 10-7-09; 8:45 am]

BILLING CODE 4140-01-P